COMMISSION ON CIVIL RIGHTS

Agenda and Notice of Public Meeting of the North Carolina Advisory Committee

Notice is hereby given, pursuant to the provisions of the rules and regulations of the U.S. Commission on Civil Rights, that a meeting of the North Carolina Advisory Committee will convene at 10 a.m. and adjourn at 3 p.m., on Tuesday, September 26, 2006, at the offices of Womble, Carlyle, Sandridge, and Rice located at 150 Fayetteville Street, Suite 2100, Raleigh, North Carolina 27601. The purpose of the meeting is an orientation of Committee members, a discussion of the Committee's report on Title I funding, a briefing on the Committee's school desegregation project, and a discussion of a project for 2007.

Persons desiring additional information, or planning a presentation to the Committee should contact Peter Minarik, Ph.D., Regional Director, the Southern Regional Office, (404) 562-7000 (TDD 404-562-7004). Hearing impaired persons who will attend the meeting and require the services of a sign language interpreter should contact the Regional Office at least ten (10) working days before the scheduled date of the meeting.

The meeting will be conducted pursuant to the provisions of the rules and regulations of the Commission.

Dated at Washington, DC, August 3, 2006.
Ivy L. Davis,
Acting Chief, Regional Programs Coordination Unit.

[FR Doc. E6-12873 Filed 8-7-06; 8:45 am]

BILLING CODE 6335-01-P